NATIONAL FOUNDATION ON THE ARTS AND THE HUMANITIES

Institute of Museum and Library Services

Notice of Proposed Information Collection Requests: Collection of Information To Assess the Current State of Library and Museum Infrastructure To Identify Infrastructure Needs

AGENCY: Institute of Museum and Library Services, National Foundation on the Arts and the Humanities.

ACTION: Notice, request for comments, and collection of information.

SUMMARY: The Institute of Museum and Library Services (IMLS), as part of its continuing effort to reduce paperwork and respondent burden, conducts a pre-clearance consultation program to provide the public and federal agencies with an opportunity to comment on proposed and/or continuing collections of information in accordance with the Paperwork Reduction Act. This pre-clearance consultation program helps to ensure that requested data will be provided in the appropriate format; that respondents' reporting burden (time and financial resources) is minimized; that collection instruments are clearly understood and cover material to which respondents can be responsive; and, that the impact of collection requirements on respondents can be properly assessed.

DATES: Written comments must be submitted to the office listed in the ADDRESSES section below on or before February 24, 2024.

ADDRESSES: Send comments to: Sandra Narva, Acting Director of Grants Policy and Management, Institute of Museum and Library Services, 955 L'Enfant Plaza North SW, Suite 4000, Washington, DC 20024-2135. Ms. Narva can be reached by telephone at 202-653-4634, or by email at snarva@imls.gov. Office hours are from 8:30 a.m. to 5 p.m., E.T., Monday through Friday, except Federal holidays. Persons who are deaf or hard of hearing (TTY users) can contact IMLS at 202-207-7858 via 711 for TTY-Based Telecommunications Relay Service.

FOR FURTHER INFORMATION CONTACT: For a copy of the documents, contact: Matthew Birnbaum, Ph.D., Director of Research and Evaluation, Institute of Museum and Library Services, 955 L'Enfant Plaza North SW, Suite 4000, Washington, DC 20024-2135. Dr. Birnbaum can be reached by telephone: 202-653-4760, or by email at mbirnbaum@imls.gov. Persons who are deaf or hard of hearing (TTY users) can contact IMLS at 202-207-7858 via 711 for TTY-Based Telecommunications Relay Service.

SUPPLEMENTARY INFORMATION: The purpose of this notice is to solicit comments about a proposed IMLS study of library and museum infrastructure. This study will follow the requirements of the House Appropriations Labor, Health and Human Services Subcommittee's 2023 Appropriations Bill for the Department of Labor (Report 117-403), and the Senate Appropriations Subcommittee's Departments of Labor, Health and Human Services, and Education, and Related Agencies Appropriations Act (2023) (S.4659). IMLS intends to assess the physical conditions of libraries and museums to inform potential grantmaking initiatives focused on improving library and museum facilities, including those in underserved communities and those impacted by national disasters.

A copy of the proposed information collection request can be obtained by contacting the individual listed below in the FOR FURTHER INFORMATION CONTACT section of this notice.

IMLS is the primary source of federal support for the nation's libraries and museums. We advance, support, and empower America's museums, libraries, and related organizations through grant making, research, and policy development. To learn more, visit www.imls.gov.

IMLS is particularly interested in public comments that help the agency to:

• Evaluate whether the proposed collection of information appropriately responds to Congressional direction authorizing this study.

• Evaluate the accuracy of the agency's estimate of the burden of the proposed collection of information including the validity of the methodology and assumptions used.

• Enhance the quality, utility, and clarity of the information to be collected.

• Minimize the burden of the collection of information on those who are to respond, including using appropriate automated electronic, mechanical, or other technological collection techniques, or other forms of information technology, e.g., permitting electronic submissions of response.

I. Background

IMLS is the primary source of federal support for the Nation's libraries and museums. We advance, support, and empower America's museums, libraries, and related organizations through grant making, research, and policy development. To learn more, visit www.imls.gov.

II. Current Actions

This notice proposes the Collection of Information to Assess the Current State of Library and Museum Infrastructure to Identify Infrastructure Needs recommended by the U.S. Congress in Reports 117-403 and S.4659. This evaluation will enable IMLS to make well-informed decisions about potential future investments and funding allocations to strategically address areas with the greatest need. The proposed collection of primary data from key stakeholders will lead to an understanding of the diversity of library and museum facilities. This study will inform IMLS as to the most critical needs of library and museum infrastructures and where to allocate funding for the most significant impact.

Agency: Institute of Museum and Library Services.

Title: Collection of Information to Assess the Current State of Library and Museum Infrastructure to Identify Infrastructure Needs.

OMB Control Number: 3137-NEW.

Agency Number: 3137.

Respondents/Affected Public: Museum and library management; museum and library associations, state, municipal, and city level stakeholders.

Total Number of Annual Respondents: Approximately 500.

Frequency of Response: Expected to be once per request.

Average Minutes per Response: Estimated at 30 minutes per response.

Total Estimated Number of Annual Burden Hours: Approximately 250 hours.

Cost Burden (dollars): Estimated at $8,844.

Public Comments Invited: Comments submitted in response to this Notice will be summarized and/or included in the request for OMB's clearance of this information collection.

Dated: December 20, 2023.
Suzanne Mbollo,
Grants Management Specialist, Institute of Museum and Library Services.

[FR Doc. 2023-28405 Filed 12-22-23; 8:45 am]

BILLING CODE 7036-01-P